DEPARTMENT OF ENERGY

Federal Energy Regulatory Commission

Combined Notice of Filings #1

Take notice that the Commission received the following electric corporate filings:

Docket Numbers: EC14-9-000.

Applicants: Lower Mount Bethel Energy, LLC.

Description: Section 203 Application of Lower Mount Bethel Energy, LLC.

Filed Date: 10/18/13.

Accession Number: 20131018-5191.

Comments Due: 5 p.m. ET 11/8/13.

Take notice that the Commission received the following exempt wholesale generator filings:

Docket Numbers: EG14-8-000.

Applicants: Yellow Jacket Energy, LLC.

Description: Notice of Self-Certification of Exempt Wholesale Generator Status of Yellow Jacket Energy, LLC.

Filed Date: 10/18/13.

Accession Number: 20131018-5148.

Comments Due: 5 p.m. ET 11/8/13.

Take notice that the Commission received the following electric rate filings:

Docket Numbers: ER10-1246-004; ER10-1982-005; ER10-1253-004; ER10-1252-004; ER13-764-004; ER12-2498-004; ER12-2499-004.

Applicants: Consolidated Edison Energy, Inc., Consolidated Edison Solutions, Inc., Consolidated Edison Company of New York, Inc., Orange and Rockland Utilities, Inc., CED White River Solar, LLC, Alpaugh 50, LLC, Alpaugh North, LLC.

Description: Notice of non-material change status of Consolidated Edison Energy, Inc., et al.

Filed Date: 10/21/13.

Accession Number: 20131021-5055.

Comments Due: 5 p.m. ET 11/12/13.

Docket Numbers: ER10-2374-004; ER10-1533-005.

Applicants: Puget Sound Energy, Inc., Macquarie Energy LLC.

Description: Amendment to June 28, 2013 Triennial Updated Market Power Analysis in the Northwest Region of Puget Sound Energy, Inc., et al.

Filed Date: 10/18/13.

Accession Number: 20131018-5195.

Comments Due: 5 p.m. ET 11/8/13.

Docket Numbers: ER11-3262-002.

Applicants: Trans Bay Cable LLC.

Description: Response to September 19, 2013 Data Request Letter, Docket ER11-3262-002 to be effective N/A.

Filed Date: 10/21/13.

Accession Number: 20131021-5003.

Comments Due: 5 p.m. ET 11/12/13.

Docket Number: ER13-2225-001.

Applicants: Entergy Arkansas, Inc.

Description: Amendment to EWOM NITSA to be effective 5/1/2013.

Filed Date: 10/21/13.

Accession Number: 20131021-5000.

Comments Due: 5 p.m. ET 11/12/13.

Docket Numbers: ER14-128-000.

Applicants: Entergy Texas, Inc.

Description: ETI Notice of Cancellation of System Agreement to be effective 10/18/2018.

Filed Date: 10/18/13.

Accession Number: 20131018-5159.

Comments Due: 5 p.m. ET 11/8/13.

Docket Numbers: ER14-129-000.

Applicants: Entergy Gulf States Louisiana, L.L.C.

Description: Wholesale Distribution Service Tariff to be effective 12/19/2013.

Filed Date: 10/18/13.

Accession Number: 20131018-5161.

Comments Due: 5 p.m. ET 11/8/13.

Docket Numbers: ER14-130-000.

Applicants: Entergy Louisiana, LLC.

Description: Wholesale Distribution Service Tariff to be effective 12/19/2013.

Filed Date: 10/18/13.

Accession Number: 20131018-5164.

Comments Due: 5 p.m. ET 11/8/13.

Docket Numbers: ER14-131-000.

Applicants: Entergy Mississippi, Inc.

Description: Wholesale Distribution Service Tariff to be effective 12/19/2013.

Filed Date: 10/18/13.

Accession Number: 20131018-5166.

Comments Due: 5 p.m. ET 11/8/13.

Docket Numbers: ER14-132-000.

Applicants: Entergy Texas, Inc.

Description: Wholesale Distribution Service Tariff to be effective 12/19/2013.

Filed Date: 10/18/13.

Accession Number: 20131018-5167.

Comments Due: 5 p.m. ET 11/8/13.

Docket Numbers: ER14-133-000.

Applicants: Entergy Arkansas, Inc.

Description: WDS and LBA Agreements with AECC to be effective 12/19/2013.

Filed Date: 10/18/13.

Accession Number: 20131018-5169.

Comments Due: 5 p.m. ET 11/8/13.

Docket Numbers: ER14-134-000.

Applicants: Entergy Arkansas, Inc.

Description: EAI Cert Concurrence to MISO Coordination Agreement to be effective 12/19/2013.

Filed Date: 10/18/13.

Accession Number: 20131018-5173.

Comments Due: 5 p.m. ET 11/8/13.

Docket Numbers: ER14-135-000.

Applicants: Cleco Power LLC.

Description: Cleco WDS and Service Agreements to be effective 12/19/2013.

Filed Date: 10/21/13.

Accession Number: 20131021-5006.

Comments Due: 5 p.m. ET 11/12/13.

Docket Numbers: ER14-136-000.

Applicants: Midcontinent Independent System Operator, Inc.

Description: Midcontinent Independent System Operator, Inc. submits filing outlining the market power analysis recommendations of the Independent Market Monitor performed pursuant to Section 63.4.1.g of MISO's Tariff.

Filed Date: 10/18/13.

Accession Number: 20131018-5196.

Comments Due: 5 p.m. ET 11/8/13.

Docket Numbers: ER14-137-000.

Applicants: Duke Energy Progress, Inc.

Description: Cancellation of Duke Energy Progress, Inc. OATT to be effective 12/20/2013 under ER14-137 Filing Type: 410.

Filed Date: 10/21/13.

Accession Number: 20131021-5034.

Comments Due: 5 p.m. ET 11/12/13.

Docket Numbers: ER14-138-000.

Applicants: Duke Energy Progress, Inc.

Description: OATT Name Change to be effective 12/20/201.

Filed Date: 10/21/13.

Accession Number: 20131021-5035.

Comments Due: 5 p.m. ET 11/12/13.

Docket Numbers: ER14-139-000.

Applicants: ArcLight Energy Marketing, LLC.

Description: ArcLight Energy Marketing, LLC submits AEM CIS and Tariff Revisions to be effective 12/20/2013.

Filed Date: 10/21/13.

Accession Number: 20131021-5068.

Comments Due: 5 p.m. ET 11/12/13.

Docket Numbers: ER14-140-000.

Applicants: Panther Creek Power Operating, LLC.

Description: Panther Creek Power Operating, LLC submits Panther Tariff Revisions to be effective 12/20/2013.

Filed Date: 10/21/13.

Accession Number: 20131021-5069.

Comments Due: 5 p.m. ET 11/12/13.

Docket Numbers: ER14-141-000.

Applicants: Scrubgrass Generating Company, L.P.

Description: Scrubgrass Generating Company, L.P. submits Scrubgrass CIS & Tariff Revisions to be effective 12/20/2013.

Filed Date: 10/21/13.

Accession Number: 20131021-5094.

Comments Due: 5 p.m. ET 11/12/13.

Docket Numbers: ER14-142-000.

Applicants: Ameren Energy Generating Company.

Description: Ameren Energy Generating Company submits Notice of Cancellation and Amendment Filing to be effective 10/11/2013.

Filed Date: 10/21/13.

Accession Number: 20131021-5102.

Comments Due: 5 p.m. ET 11/12/13.

Docket Numbers: ER14-143-000.

Applicants: AmerenEnergy Medina Valley Cogen, L.L.C.

Description: AmerenEnergy Medina Valley Cogen, L.L.C. submits Notice of Succession to be effective 10/11/2013.

Filed Date: 10/21/13.

Accession Number: 20131021-5105.

Comments Due: 5 p.m. ET 11/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2013.
Nathaniel J. Davis, Sr.,
Deputy Secretary.

[FR Doc. 2013-25528 Filed 10-28-13; 8:45 am]

BILLING CODE 6717-01-P